DEPARTMENT OF TRANSPORTATION

Surface Transportation Board

[Docket No. FD 35454]

Big Four Terminal Railroad, LLC—Operation Exemption—RMW Ventures, LLC

Big Four Terminal Railroad, LLC (BFTR), has filed a verified notice of exemption under 49 CFR 1150.31 to operate over 5.2 +/− miles of rail line between milepost 0.0 in Connorsville, Ind. and milepost 5.2 +/− in Beesons, Ind., in Fayette and Wayne Counties, Ind. BFTR states that it has entered into an agreement dated December 1, 2010, with RMW Ventures, LLC (RMW), the current owner of the line, to provide rail service upon obtaining Board authorization and that it will replace C&NC Railroad Corporation (C&NC) as the operator of the line.¹

¹ C&NC obtained authority to lease and operate the line in C&NC Railroad Corp.—Lease and Operation Exemption—Lines of the Norfolk and Western Railway Corp. and Indiana Hi Rail Corp, FD 33475 (STB Served Oct. 31, 1997). C&NC will continue to have a common carrier obligation to operate the line until such time as appropriate discontinuance authority is sought and granted.

BFTR states that its operating agreement with RMW does not contain any interchange commitments and that its interchange agreements with its connecting carriers will not contain any interchange commitments either. BFTR certifies that the projected annual revenues as a result of the proposed transaction will not exceed those that would qualify it as a Class III carrier and will not exceed $5 million.

BFTR states that consummation of the transaction will occur on or after the effective date of the exemption, which is January 15, 2011 (30 days after the exemption was filed).

If the verified notice contains false or misleading information, the exemption is void ab initio. Petitions to revoke the exemption under 49 U.S.C. 10502(d) may be filed at any time. The filing of a petition to revoke will not automatically stay the effectiveness of the exemption. Stay petitions must be filed no later than January 7, 2011 (at least 7 days before the exemption becomes effective).

An original and 10 copies of all pleadings, referring to Docket No. FD 35454, must be filed with the Surface Transportation Board, 395 E Street, SW., Washington, DC 20423-0001. In addition, a copy of each pleading must be served on Richard R. Wilson, Esq., Richard R. Wilson, P.C., 518 N. Center Street, Suite 1, Ebensburg, PA 15931.

Board decisions and notices are available on our Web site at http://www.stb.dot.gov.

Decided: December 23, 2010.
By the Board, Rachel D. Campbell, Director, Office of Proceedings.
Andrea Pope-Matheson,
Clearance Clerk.

[FR Doc. 2010-32932 Filed 12-29-10; 8:45 am]

BILLING CODE 4915-01-P